ENVIRONMENTAL PROTECTION AGENCY

40 CFR Part 50

[EPA-HQ-OAR-2013-0572, EPA-HQ-OAR-2015-0229; FRL-9940-78-OAR]

RIN 2060-AS02

Treatment of Data Influenced by Exceptional Events

AGENCY: Environmental Protection Agency (EPA).

ACTION: Proposed rule; notice of availability of related guidance; extension of comment period.

SUMMARY: On November 20, 2015, the Environmental Protection Agency (EPA) proposed a rule titled, “Treatment of Data Influenced by Exceptional Events.” The EPA is extending the comment period on the proposed rule and the notice of availability of the related draft guidance that was scheduled to close on January 19, 2016. The new comment closing date will be February 3, 2016. We are extending the comment period at the request of several stakeholders to allow interested parties additional time to thoroughly review and analyze the noted documents and provide meaningful comments.

DATES: The public comment period for the proposed rule and notice of availability of related draft guidance published in the Federal Register on November 20, 2015 (80 FR 72840), is being extended. Written comments must be received on or before February 3, 2016.

ADDRESSES: The EPA has established separate dockets for the proposed rulemaking and the related draft guidance (available at http://www.regulations.gov). For the proposed rulemaking titled, “Treatment of Data Influenced by Exceptional Events,” the Docket ID No. is EPA-HQ-OAR-2013-0572. For the related draft guidance titled, “Draft Guidance on the Preparation of Exceptional Events Demonstrations for Wildfire Events that May Influence Ozone Concentrations,” the Docket ID No. is EPA-HQ-OAR-2015-0229. Information on both of these actions is posted at http://www2.epa.gov/air-quality-analysis/treatment-data-influenced-exceptional-events. Submit your comments, identified by the appropriate Docket ID, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: For additional information on this action, contact Beth W. Palma, Office of Air Quality Planning and Standards, Environmental Protection Agency (C539-04), Research Triangle Park, North Carolina 27711; telephone number (919) 541-5432; email address: palma.elizabeth@epa.gov.

SUPPLEMENTARY INFORMATION: After considering the request of several stakeholders, the EPA has decided to extend the public comment period for this action until February 3, 2016. This extension will allow interested parties additional time to thoroughly review and analyze the noted documents and provide meaningful comments.

Dated: December 21, 2015.
Stephen D. Page,
Director, Office of Air Quality Planning and Standards.

[FR Doc. 2015-32899 Filed 12-29-15; 8:45 am]

BILLING CODE 6560-50-P